ENVIRONMENTAL PROTECTION AGENCY

[EPA-HQ-OAR-2022-0079; FRL-10448-01-OMS]

Information Collection Request Submitted to OMB for Review and Approval; Comment Request; NESHAP for Commercial Ethylene Oxide Sterilization and Fumigation Operations (Renewal)

AGENCY: Environmental Protection Agency (EPA).

ACTION: Notice.

SUMMARY: The Environmental Protection Agency (EPA) has submitted an information collection request (ICR), NESHAP for Commercial Ethylene Oxide Sterilization and Fumigation Operations (EPA ICR Number 1666.12, OMB Control Number 2060-0283), to the Office of Management and Budget (OMB) for review and approval in accordance with the Paperwork Reduction Act. This is a proposed extension of the ICR, which is currently approved through January 31, 2023. Public comments were previously requested, via the Federal Register, on April 8, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 23, 2022.

ADDRESSES: Submit your comments, referencing Docket ID Number EPA-HQ-OAR-2022-0079, to EPA online using https://www.regulations.gov/ (our preferred method), or by email to docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Commercial Ethylene Oxide Sterilization and Fumigation Operations (40 CFR part 63, subpart O) were proposed on March 7, 1994; promulgated on December 6, 1994; and most recently amended on February 27, 2014. These regulations apply to existing facilities and new facilities ethylene oxide (E.O.) sterilization and fumigation facilities using one ton of ethylene oxide (E.O.) (as defined in 40 CFR 63.361) after December 6, 1994. New facilities include those that commenced construction, modification, or reconstruction after the date of proposal. This information is being collected to assure compliance with 40 CFR part 63, subpart O.

Form Numbers: None.

Respondents/affected entities: Existing facilities and new facilities E.O. sterilization and fumigation facilities using one ton of E.O. (as defined in 40 CFR 63.361) after December 6, 1994.

Respondent's obligation to respond: Mandatory (40 CFR part 63, subpart O).

Estimated number of respondents: 97 (total).

Frequency of response: Initially and semiannually.

Total estimated burden: 6,640 hours (per year). Burden is defined at 5 CFR 1320.3(b).

Total estimated cost: $1,330,000 (per year), which includes $534,000 in annualized capital/startup and/or operation & maintenance costs.

Changes in the Estimates: There is a decrease in the total estimated respondent burden compared with the ICR currently approved by OMB. The adjustment decrease in burden from the most-recently approved ICR is due to a decrease in the number of sources. The previous ICR indicated 128 respondents. The EPA has recently identified 97 respondents over the next three years based on a section 114 request for the Ethylene Oxide Commercial Sterilization and Fumigation Operations from May 2021. Conclusively, there has been a 25% decrease in sources. This ICR also reflects that there is overall zero growth anticipated in the industry over the next three years, and removes the burden associated with new source activities. The overall result is a decrease in burden hours and operation and maintenance costs.

Courtney Kerwin,
Director, Regulatory Support Division.

[FR Doc. 2022-25534 Filed 11-22-22; 8:45 am]

BILLING CODE 6560-50-P